DEPARTMENT OF STATE

[Public Notice 7688]

Bureau of Educational and Cultural Affairs (ECA) Request for Grant Proposals: Youth Leadership Program with Algeria

Announcement Type: New Cooperative Agreement.

Funding Opportunity Number: ECA/PE/C/PY-12-09.

Catalog of Federal Domestic Assistance Number: 19.415.

Application Deadline: January 4, 2012.

Executive Summary: The Office of Citizen Exchanges, Youth Programs Division, of the Bureau of Educational and Cultural Affairs announces an open competition for the Youth Leadership Program with Algeria. Public and private nonprofit organizations meeting the provisions described in Internal Revenue Code section 26 U.S.C. 501(c)(3) may submit proposals to provide youth and adult participants from Algeria with an approximately four-week U.S.-based exchange program in summer 2012 focused on civic education, youth leadership development, respect for diversity, and community engagement, and to support follow-on community service projects in their home communities. The U.S. Embassy in Algiers will recruit, screen, and select Algerian participants. The award recipient will be required to recruit, screen, and select American participants, and collaborate with an in-country partner on logistical arrangements and follow-on activities.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The Youth Leadership Program with Algeria provides approximately 24 secondary school students and three adult participants from Algeria the opportunity to engage in an intensive, thematic exchange in the United States focusing broadly on the primary themes of civic education, youth leadership development, respect for diversity, and community engagement. One of the following two subthemes, to be selected by the applicant, will be used as tools to illustrate these concepts: Business/entrepreneurship or applied communications.

Approximately six to twelve competitively selected American high school students will join the Algerian participants in U.S.-based exchange activities. Participants will engage in a variety of activities, such as workshops on leadership and service, community site visits related to the program themes and selected subtheme, interactive training and discussion groups, small group work, presentations, visits to high schools, local cultural activities, homestays, and other activities designed to achieve the program's stated goals. Follow-on activities with the Algerian and American participants are an integral part of the program, as the students apply the knowledge and skills they have acquired by planning service projects in their home communities. Activities should therefore be geared toward preparing participants to conduct projects at home that serve a community need.

The goals of the programs are to:

(1) Promote mutual understanding between the people of the United States and the people of Algeria;

(2) Inspire a sense of civic responsibility and commitment to community development among youth;

(3) Develop a cadre of community leaders who will share their knowledge and skills with their peers through positive action; and

(4) Foster relationships among youth from different ethnic, religious, and national groups.

The objectives of the program are for participants to:

(1) Demonstrate a better understanding of the elements of a participatory democracy as practiced in the United States;

(2) Demonstrate critical thinking and leadership skills; and

(3) Demonstrate skill at developing project ideas and planning a course of action to bring the projects to fruition.

The primary themes of the programs are:

(1) Civic Education (citizen participation, grassroots democracy, and rule of law);

(2) Youth Leadership Development (team building, public speaking, negotiation, goal setting and project planning);

(3) Respect for Diversity (ethnicity, race, gender, religion, geographic location, socio-economic status, and disabilities); and

(4) Community Engagement (volunteerism, philanthropy, and social/corporate responsibility).

The exchange format will be intensive and interactive. Applicants must present an exchange that allows the participants to thoroughly explore the primary themes and selected subtheme in a creative, memorable, and practical way. All activities should be designed to be replicable and provide practical knowledge and skills that the participants can apply to school and civic activities at home. Opportunities for the youth and adult participants to interact with their American peers in a sustained, substantive, and in-depth manner must be prominently integrated into the exchange.

Using these goals, objectives, and themes, applicant organizations should identify their own specific and measurable outputs and outcomes based on the project specifications provided in this solicitation. Proposals should indicate how recipients will achieve the short-term program objectives, and how these objectives will contribute to the achievement of the stated long-term goals.

Participants

The participants will be secondary school students between the ages of 15 and 17 who have demonstrated leadership abilities in their schools and/or communities, and have at least one semester of high school remaining. Adult participants will be community leaders or educators who work with youth and who have demonstrated support of youth and community activities and have an interest in youth leadership. The adult participants will have the role of exchange participant, chaperone, and post-exchange mentor. Participants must be proficient in the English language.

The exchange will be composed of approximately 24 secondary school students and three adult participants from Algeria and approximately 6-12 competitively selected American secondary school students who will participate in the U.S.-based activities with the Algerian students.

Organizational Capacity

Applicants must demonstrate their capacity for doing programs of this nature, focusing on three areas of competency: (1) Provision of projects that address the goals, objectives, and themes outlined in this document; (2) age-appropriate programming for youth; and (3) previous experience in working with individuals from Algeria or other countries in North Africa.

The program will be implemented by a team consisting of the U.S. Embassy, the U.S. award recipient, and an in-country partner organization. The award recipient will collaborate with the partner organization in Algeria in arranging logistics, developing content for and implementing a pre-departure orientation in Algiers, and organizing and managing follow-on activities. The applicant may elect to work with an organization of the embassy's choosing (to be identified after the cooperative agreement has been awarded), or may propose to collaborate with an organization with which it already has an established, long-standing partnership. If the latter, applicants must provide a detailed description of the partnership, including information on activities that have been conducted jointly to date, as well a description of the partner's role and responsibilities. The proposed partner must be based in Algiers, have the demonstrated ability to conduct the specified project activities in Algeria, and must either have its own secure facilities (i.e. conference space), or access to such facilities for program activities in Algiers.

U.S. Embassy Involvement

The Public Affairs Section of the U.S. Embassy in Algiers will recruit, screen, and select the Algerian participants, as well as provide advice and assistance in the execution of program components. If applicable, the embassy will identify a partner organization in Algiers that will collaborate closely with the award recipient on program components.

Guidelines

The total amount of funding is $250,000, pending the availability of funds. The Bureau intends to award one cooperative agreement. It is anticipated that the period of the cooperative agreement will begin in spring 2012. The award period will be 12 to 18 months in duration and will cover all aspects of project planning, exchange activities in Algeria and the United States, and follow-on activities in Algeria.

The total length of the exchange program should be approximately four weeks and be inclusive of a three- to five-day pre-departure orientation in Algiers, and all of the U.S.-based exchange activities. The U.S.-based exchange should take place between the first week of June and the third week of July 2012 to allow participants to complete the exchange and return home before the start of Ramadan, which is estimated to begin on July 20, 2012. Applicants should propose specific exchange dates in their proposals, but the exact timing may be altered through the mutual agreement of the Department of State and the award recipient.

The Bureau reserves the right to reduce, revise, or increase proposal project configurations, budgets, and participant numbers in accordance with the needs of the program and the availability of funds.

In pursuit of the goals outlined above, the award recipient will be responsible for the following:

(1) Conducting open recruitment and competitive selection of a diverse group of American youth to join Algerian participants in U.S.-based exchange activities.

(2) Planning and implementing a pre-departure orientation in Algiers for Algerian participants, in collaboration with the in-country partner.

(3) Conducting an orientation(s) for staff, American participants and their families, and those individuals participating from the U.S. host communities, including host families, prior to the start of the program.

(4) Designing and planning exchange activities with American peers that provide a creative and substantive program on the specified themes. Opportunities for the adult participants to work with their peers must also be included to help them foster youth leadership, civic education, and community service programs at home.

(5) Conducting a welcome orientation for participants upon their arrival in the United States to review program goals, objectives, and expectations with American peers.

(6) Managing logistical arrangements, including international and domestic travel, ground transportation, accommodations, group meals, and disbursement of pocket money.

(7) Arranging homestays with properly screened and briefed host families for a significant portion of the exchange period. Criminal background checks must be conducted for members of host families and others living in the home who are 18 years or older.

(8) Developing and implementing a plan to monitor the participants' safety and well-being while on the exchange, and to create opportunities for participants to share potential issues and resolve them promptly. The award recipient will be required to provide proper staff supervision and facilitation to ensure that the teenagers have a safe and pedagogically rich program. Staff, along with mentors, will assist the youth with cultural adjustments, provide societal context to enhance learning, and counsel students as needed. Criminal background checks must be conducted for all program staff.

(9) Making proper arrangements for participants' religious observances.

(10) Providing a closing session to summarize the delegation's activities, prepare participants for their return home, and to further prepare for follow-on activities and projects.

(11) Arranging a short, substantive visit to Washington, DC for Algerian and American participants at the beginning or conclusion of the exchange that will include a meeting at the U.S. Department of State, cultural field trips, and additional skill building exercises.

(12) Planning and organizing follow-on activities for American and Algerian alumni in their home communities designed to reinforce the ideas and skills imparted during the exchange program.

(13) Arranging international travel to Algeria for program staff, trainers, or educators to provide further training for alumni and their peers.

(14) Designing and implementing an evaluation plan that assesses the short- and medium-term impact of the project on the participants as well as on U.S. host and home communities.

Please Note: The ECA award for this program will take the form of a cooperative agreement with the award recipient. In a cooperative agreement, the Department of State is substantially involved in program activities above and beyond routine award monitoring. The Department's activities and responsibilities for the Youth Leadership Program with Algeria are as follows:

(1) Manage the recruitment and selection of Algerian participants.

(2) Provide advice and collaboration in the execution of all program components.

(3) Approve the final candidate selection of American participants and alternates.

(4) Issue DS-2019 forms and J-1 visas. All foreign participants will travel on a U.S. Government designation for the J Exchange Visitor Program.

(5) Facilitate interaction within the Department of State, to include ECA, the regional bureaus, and overseas posts.

(6) Arrange meetings with Department of State officials in Washington, DC.

(7) Approve publicity materials and calendar of exchange activities.

Additional Information

The award recipient will retain the name “Youth Leadership Program with Algeria” (or Algeria Youth Leadership Program) to identify its project. All materials, publicity, and correspondence related to the program will acknowledge this as a program of the Bureau of Educational and Cultural Affairs of the U.S. Department of State. The Bureau will retain copyright use of and be allowed to distribute materials related to this program as it sees fit.

The organization must inform the ECA Program Officer and the U.S. Embassy in Algiers of its progress at each stage of the project's implementation in a timely fashion, and will be required to obtain approval of any significant program changes in advance of their implementation.

Proposals must demonstrate how the stated objectives will be met. The proposal narrative should provide detailed information on the major project activities, and applicants should explain and justify their programmatic choices. Projects must comply with J-1 visa regulations for the International Visitor and Government Visitor categories. Please be sure to refer to the complete Solicitation Package—this RFGP, the Project Objectives, Goals, and Implementation (POGI), and the Proposal Submission Instructions (PSI)—for further information.

II. Award Information

Type of Award: Cooperative Agreement. ECA's level of involvement in this program is listed under number I above.

Fiscal Year Funds: FY2012, pending availability of funds.

Approximate Total Funding: $250,000.

Approximate Number of Awards: One.

Anticipated Award Date: Pending availability of funds, March 15, 2012.

Anticipated Project Completion Date: 12 to 18 months after the onset of the award, to be determined by the applicant according to its program design.

Additional Information: Pending successful implementation of this program and the availability of funds in subsequent fiscal years, it is ECA's intent to renew this grant or cooperative agreement for two additional fiscal years, before openly competing it again.

III. Eligibility Information

III.1. Eligible applicants: Applications may be submitted by public and private nonprofit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), subpart C.23—Cost Sharing and Matching. In the event you do not provide the minimum amount of cost sharing as stipulated in the approved budget, ECA's contribution will be reduced in like proportion.

III.3. Other Eligibility Requirements

(1) Bureau grant guidelines require that organizations with less than four years experience in conducting international exchanges be limited to $60,000 in Bureau funding. ECA anticipates making an award in an amount exceeding $60,000 to support program and administrative costs required to implement this exchange program. Therefore, organizations with less than four years experience in conducting international exchanges are ineligible to apply under this competition. The Bureau encourages applicants to provide maximum levels of cost sharing and funding in support of its programs.

(2) Proposed sub-award recipients are also limited to grant funding of $60,000 or less if they do not have four years of experience in conducting international exchanges.

(3) The Bureau encourages applicants to provide maximum levels of cost sharing and funding in support of its programs.

(4) Organizations may submit only one proposal (total) under this competition. If more than one proposal is received from the same applicant, all submissions will be declared technically ineligible and will receive no further consideration in the review process.

Please note: Applicant organizations are defined by their legal name, and EIN number as stated on their completed SF-424 and additional supporting documentation outlined in the Proposal Submission Instructions (PSI) document.

IV. Application and Submission Information

Note: Please read the complete announcement before sending inquiries or submitting proposals. Once the RFGP deadline has passed, Bureau staff may not discuss this competition with applicants until the proposal review process has been completed.

IV.1. Contact Information To Request an Application Package

Please contact the Youth Programs Division, ECA/PE/C/PY, SA-5, 3rd Floor, U.S. Department of State, 2200 C Street NW., Washington, DC 20037, by telephone (202) 632-9261 or Email: ShieldsSD@State.gov to request a Solicitation Package. Please refer to the Funding Opportunity Number ECA/PE/C/PY-12-09 located at the top of this announcement when making your request.

Alternatively, an electronic application package may be obtained from grants.gov. Please see section IV.3f for further information.

The Solicitation Package contains the Proposal Submission Instruction (PSI) document which consists of required application forms, and standard guidelines for proposal preparation. It also contains the Project Objectives, Goals and Implementation (POGI) document, which provides specific information, award criteria and budget instructions tailored to this competition.

Please specify Program Officer Sarah Shields and refer to the Funding Opportunity Number ECA/PE/C/PY-12-09 located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-(866) 705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. All federal award recipients must maintain current registrations in the Central Contractor Registration (CCR) database. Recipients must maintain accurate and up-to-date information in the CCR until all program and financial activity and reporting have been completed. Recipients must review and update the information at least annually after the initial registration and more frequently if required information changes or another award is granted.

Failure to register in the CCR will render applicants ineligible to receive funding.

You must have nonprofit status with the IRS at the time of application.

Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please Take Into Consideration the Following Information When Preparing Your Proposal Narrative

IV.3d.1. Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving awards (either a grant or cooperative agreement) under this RFGP will be third parties “cooperating with or assisting the sponsor in the conduct of the sponsor's program.” The actions of recipient organizations shall be “imputed to the sponsor in evaluating the sponsor's compliance with” 22 CFR 62. Therefore, the Bureau expects that any organization receiving an award under this competition will render all assistance necessary to enable the Bureau to fully comply with 22 CFR 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: Office of Designation, Private Sector Programs Division, U.S. Department of State, ECA/EC/D/PS, SA-5, 5th Floor, 2200 C Street NW., Washington, DC 20037.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

Outcomes

We encourage you to assess the following four levels of outcomes, as they relate to the program goals set out in the RFGP (listed here in increasing order of importance):

(1) Participant satisfaction with the program and exchange experience.

(2) Participant learning, such as increased knowledge, aptitude, skills, and changed understanding and attitude. Learning includes both substantive (subject-specific) learning and mutual understanding.

(3) Participant behavior, concrete actions to apply knowledge in work or community; greater participation and responsibility in civic organizations; interpretation and explanation of experiences and new knowledge gained; continued contacts between participants, community members, and others.

(4) Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. Budget requests may not exceed $250,000. There must be a summary budget as well as breakdowns reflecting both administrative and program budgets. Applicants may provide separate sub-budgets for each program component, phase, location, or activity to provide clarification. Please refer to the Solicitation Package (POGI and PSI) for complete budget guidelines and formatting instructions.

IV.3f. Application Deadline and Methods of Submission

Application Deadline Date: Wednesday, January 4, 2012.

Reference Number: ECA/PE/C/PY-12-09.

Methods of Submission: Applications may be submitted in one of two ways:

(1) In hard-copy, via a nationally recognized overnight delivery service (i.e., FedEx, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and six (6) copies of the application should be sent to: Program Management Division, ECA-IIP/EX/PM, Ref.: ECA/PE/C/PY-12-09, SA-5, Floor 4, Department of State, 2200 C Street NW., Washington, DC 20037.

With the submission of the proposal package, please also email the Executive Summary, Proposal Narrative, and Budget sections of the proposal, as well as any attachments essential to understanding the program, in Microsoft Word, Excel, and/or PDF, to YLP@state.gov. The Bureau will provide these files electronically to the Public Affairs Section at the U.S. Embassy in Algiers for its review.

IV.3f.2. Submitting Electronic Applications

Applicants have the option of submitting proposals electronically through Grants.gov (http://www.grants.gov). Complete solicitation packages are available at Grants.gov in the “Find” portion of the system.

Please note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support.

Contact Center Phone: (800) 518-4726.

Business Hours: Monday-Friday, 7 a.m.-9 p.m. Eastern Time.

Email: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation.

Applicants will receive a validation email from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

(1) Quality of the program idea: Objectives should be reasonable, feasible, and flexible. The proposal should clearly demonstrate how the institution will meet the program's objectives and plan. The proposed program should be creative, age-appropriate, respond to the design outlined in the solicitation, and demonstrate originality. It should be clearly and accurately written, substantive, and with sufficient detail. Proposals should also include a plan to support participants' community activities upon their return home.

(2) Program planning and ability to achieve program objectives: A detailed agenda and work plan should clearly demonstrate how project objectives will be achieved. The agenda and plan should adhere to the program overview and guidelines described above. The substance of workshops, seminars, presentations, school-based activities, and/or site visits should be described in detail.

(3) Support of diversity: The proposal should demonstrate the applicant's commitment to promoting the awareness and understanding of diversity in participant recruitment and selection and in program content. Applicants should demonstrate readiness to accommodate participants with physical disabilities.

(4) Institutional capacity and track record: Proposed personnel and institutional resources should be adequate and appropriate to achieve the program goals. The proposal should demonstrate an institutional record of successful exchange programs, including responsible fiscal management and full compliance with all reporting requirements for past Bureau awards (grants or cooperative agreements) as determined by Bureau Grants Staff. The Bureau will consider the past performance of prior recipients and the demonstrated potential of new applicants.

(5) Program evaluation: The proposal should include a plan to evaluate the program's success in meeting its goals, both as the activities unfold and after they have been completed. The proposal should include a draft survey questionnaire or other technique, plus a description of a methodology to link outcomes to original project objectives. The award recipient will be expected to submit intermediate reports after each project component is concluded.

(6) Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions, which demonstrates institutional and community commitment.

VI. Award Administration Information

VI.1a. Award Notices

Final awards cannot be made until funds have been appropriated by Congress, allocated and committed through internal Bureau procedures. Successful applicants will receive an Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Nonprofit Organizations.

Please reference the following Web sites for additional information: http://www.whitehouse.gov/omb/grants, http://fa.statebuy.state.gov.

VI.3. Reporting Requirements: You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports, including the SF-PPR-E and SF-PPR-F.

(4) Quarterly or interim reports, as required in the Bureau cooperative agreement.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Sarah Shields, Youth Programs Division, ECA/PE/C/PY/T, SA-5, 3rd Floor, U.S. Department of State, 2200 C Street NW., Washington, DC 20522-0503, by telephone (202) 632-9261 or email ShieldsSD@state.gov.

All correspondence with the Bureau concerning this RFGP should reference the above title and number ECA/PE/C/PY-12-09.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 9, 2011.
J. Adam Ereli,
Principal Deputy Assistant Secretary, Bureau of Educational and Cultural Affairs, U.S. Department of State.

[FR Doc. 2011-29643 Filed 11-16-11; 8:45 am]

BILLING CODE 4710-05-P